DEPARTMENT OF THE INTERIOR

[178D0102DM, DS6OS00000, DLSN00000.000000, DX6CS25]

Women's Suffrage Centennial Commission; Notification of Public Meeting

AGENCY: Women's Suffrage Centennial Commission, Department of the Interior.

ACTION: Meeting notice.

SUMMARY: Notice of this meeting is being provided according to the requirements of the Federal Advisory Committee Act. This notice provides the schedule and agenda for the December 7, 2018, meeting of the Women's Suffrage Centennial Commission (Commission).

DATES: Meeting date: The meeting will be held on Friday, December 7, 2018, beginning at 9 a.m., and ending no later than 5 p.m. (Eastern Standard Time).

ADDRESSES: The meeting will be held at the Belmont-Paul Women's Equality National Monument, 144 Constitution Avenue NE, Washington, DC 20002; in the Allender Gallery on the 2nd floor.

FOR FURTHER INFORMATION CONTACT: Kim Oliver, Designated Federal Officer, Women's Suffrage Centennial Commission, 1849 C Street, NW, Room 7313, Washington, DC 20240; phone: (202) 912-7510; fax: (202) 219-2100; email: kmoliver@blm.gov.

SUPPLEMENTARY INFORMATION:

Background

Congress passed legislation to create the Women's Suffrage Centennial Commission Act, a bill, “to ensure a suitable observance of the centennial of the passage and ratification of the 19th Amendment of the Constitution of the United States providing for women's suffrage.”

The duties of the Commission, as written in the law, include: (1) To encourage, plan, develop, and execute programs, projects, and activities to commemorate the centennial of the passage and ratification of the 19th Amendment; (2) To encourage private organizations and State and local Governments to organize and participate in activities commemorating the centennial of the passage and ratification of the 19th Amendment; (3) To facilitate and coordinate activities throughout the United States relating to the centennial of the passage and ratification of the 19th Amendment; (4) To serve as a clearinghouse for the collection and dissemination of information about events and plans for the centennial of the passage and ratification of the 19th Amendment; and (5) To develop recommendations for Congress and the President for commemorating the centennial of the passage and ratification of the 19th Amendment.

Meeting Agenda

Welcome and Introductions

Ethics briefing

FACA Briefing

FACA Records Briefing

Summary of NPS 19th Amendment Commemoration Planning

Overview of Women's Suffrage Movement

Establish Vision/Mission

Discuss informative speakers/research/articles

Establish subcommittees

Public Comment Period

2019 Meeting Schedule

Adjourn

The meeting is open to the public, but preregistration is required. Any individual who wishes to attend the meeting should register via email at kmoliver@blm.gov or telephone (202) 912-7510. Interested persons may choose to make a public comment at the meeting during the designated time for this purpose. Members of the public may also choose to submit written comments by mailing them to Kim Oliver, Designated Federal Officer, 1849 C Street NW, Room 7313, Washington, DC 20240, or via email at kmoliver@blm.gov. Please contact Ms. Oliver at the email address above to obtain meeting materials. All written comments received will be provided to the Commission.

Individuals requiring special accommodations to access the public meeting should contact Ms. Oliver no later than December 3, 2018, so that appropriate arrangements can be made.

Public Disclosure of Comments

Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2

Margaret Triebsch,
Program Analyst.

[FR Doc. 2018-25331 Filed 11-19-18; 8:45 am]

BILLING CODE 4334-63-P